DEPARTMENT OF THE INTERIOR

Fish and Wildlife Service

[FWS-R9-R-2011-N030; 93261-1263-000-5C]

RIN 1018-AX35

Draft Fish and Wildlife Service Friends Policy

AGENCY: Fish and Wildlife Service, Interior.

ACTION: Notice of reopening of comment period.

SUMMARY: We are reopening the comment period on our draft Fish and Wildlife Service Friends Policy, which we made available for public comment via a Federal Register notice published on October 18, 2010.

DATES: Submit comments on or before April 8, 2011.

ADDRESSES: You may submit comments on the draft policy by mail to: Kevin Kilcullen, Division of Visitors Services and Communication, U.S. Fish and Wildlife Service, 4401 N. Fairfax Drive, Room 635, Arlington, VA 22203; by FAX to (703) 358-2517; or by e-mail to refugesystempolicycomments@fws.gov.

FOR FURTHER INFORMATION CONTACT: Kevin Kilcullen, (703) 358-2382.

SUPPLEMENTARY INFORMATION: In a Federal Register notice dated October 18, 2010 (75 FR 63851), we announced availability for public review and comment of a draft policy for Fish and Wildlife Service employees working with Refuge Friends groups. Established in 1996 to encourage and organize community involvement in National Wildlife Refuge System activities, the National Friends Program works to expand the effectiveness of community-based, nonprofit Friends organizations to build visibility and support for the Fish and Wildlife Service's conservation programs. Given the rapid growth and size of the program (currently about 230 organizations and an estimated 60,000 members), we have identified the need to issue national policy guidance on a number of issues affecting our relationship with Friends organizations. Those needs include administrative procedures, guidance on addressing financial and administrative information, a sample Friends Partnership Agreement, and guidance on revenue-generating activities that will assist Service employees in working with Friends organizations. For more background on the draft policy, see our October 18, 2010, notice. The draft policy is available at http://www.fws.gov/refuges/friends.

We received several requests to extend the public comment period beyond the December 2, 2010, due date. In order to ensure that the public has an adequate opportunity to review and comment on our draft policy, we are reopening the comment period for an additional 30 days. Comments previously submitted need not be resubmitted and will be fully considered in preparation of the final policy.

Before including your address, phone number, e-mail address, or other personal identifying information in your comment, you should be aware that your entire comment—including your personal identifying information—may be made publicly available at any time. While you can ask us in your comment to withhold your personal identifying information from public review, we cannot guarantee that we will be able to do so.

Dated: February 17, 2011.
Rowan W. Gould,
Director, U.S. Fish and Wildlife Service (Acting).

[FR Doc. 2011-5307 Filed 3-8-11; 8:45 am]

BILLING CODE 4310-55-P